GENERAL SERVICES ADMINISTRATION

[Notice—PBS-2024-05; Docket No. 2024-0002; Sequence No. 13]

Notice of Availability for a Final Environmental Impact Statement and Finding of No Practicable Alternative for the Expansion and Modernization of the Raul Hector Castro Land Port of Entry and Proposed Commercial Land Port of Entry in Douglas, Arizona

AGENCY: Public Buildings Service (PBS), General Services Administration (GSA).

ACTION: Notice of availability, finding of no practicable alternative (FONPA).

SUMMARY: This notice announces the availability of the Final Environmental Impact Statement (FEIS), which examines the potential environmental impacts from the expansion and modernization of the Raul Hector Castro (RHC) Land Port of Entry (LPOE) in Douglas, Arizona and construction of a new Commercial LPOE to address various operational, capacity, and safety issues associated with the existing facility.

DATES:

Wait Period—The FEIS Wait Period begins with publication of this notice in the Federal Register and will last for 30 days until May 6th, 2024. Any final written comments must be received by the last day of the Wait Period (see ADDRESSES section of this notice on how to submit comments). After the Wait Period, GSA will finalize the ROD.

Meeting Date—A public meeting will be held on Wednesday, April 24, 2024, from 4 p.m. to 6 p.m. mountain time. The meeting will be held in the Douglas Government Center (see ADDRESSES section of this notice).

ADDRESSES:

Meeting Location—A public meeting will be held at the Douglas Government Center, 1012 N G Ave., Douglas, AZ 85607.

Public Comments—Any final written comments may be submitted at the public meeting or by one of the following methods.

• Email: Osmahn.Kadri@gsa.gov. Please include `Douglas Commercial and RHC LPOE EIS' in the subject line of the message.

• Mail: ATTN: Osmahn Kadri, Douglas Commercial and RHC LPOE EIS; U.S. General Services Administration, c/o Potomac-Hudson Engineering, Inc., 77 Upper Rock Circle, Suite 302, Rockville, MD 20850.

FOR FURTHER INFORMATION CONTACT: Questions on the FEIS or public meeting should be directed to: Osmahn Kadri, NEPA Program Manager, GSA at 415-522-3617, or via email to Osmahn.Kadri@gsa.gov. Please also call the number if special assistance is needed to attend and participate in the public meeting.

SUPPLEMENTARY INFORMATION: The FEIS describes the purpose and need for the project; alternatives considered; the existing environment that could be affected; the potential impacts resulting from each of the alternatives; and proposed best management practices and/or mitigation measures. The FEIS also includes a Floodplain Assessment and Statement of Findings, which provides a FONPA for construction in floodplains at the proposed Commercial LPOE and RHC LPOE. The floodplain assessment was revised to include floodplain impacts at the Commercial LPOE due to updated hydrologic data. Based on impacts analyses and public comments, GSA has identified Alternative 2 (Concurrent Construction—Westward Expansion) as its preferred alternative. GSA has also identified sub-alternative d (combination of adaptive reuse, relocation, or demolition) as the preferred alternative for managing historic structures at the RHC LPOE. GSA is continuing consultation with the State Historic Preservation Office as required under section 106 of the National Historic Preservation Act, and updates will be provided in the Record of Decision (ROD). Under the Endangered Species Act, GSA coordinated with the U.S. Fish and Wildlife Service (USFWS) per section 7 requirements to determine effects to federally protected species. The USFWS concurred with GSA findings that the Proposed Action would not likely adversely affect federally threatened or endangered species. Correspondence with USFWS and the findings are incorporated in the FEIS.

Public Comment Period

The views and comments of the public are necessary in helping GSA in its decision-making process with impacts to environmental, cultural, and economic impacts. The meeting will be an informal open house, where visitors may speak with GSA representatives and provide written comments on the FEIS and FONPA. No formal presentation will be provided. All comments will be considered equally and will be part of the public record.

Additional information on the project, including an electronic copy of the FEIS, may also be found online at: https://www.gsa.gov/about-us/regions/welcome-to-the-pacific-rim-region-9/land-ports-of-entry/douglas-commercial-land-port-of-entry and https://www.gsa.gov/about-us/regions/welcome-to-the-pacific-rim-region-9/land-ports-of-entry/raul-hector-castro-land-port-of-entry.

Russell Larson,
Director, Portfolio Management Division, Pacific Rim Region, Public Buildings Service.

[FR Doc. 2024-07032 Filed 4-4-24; 8:45 am]

BILLING CODE 6820-YF-P